DEPARTMENT OF THE INTERIOR

Bureau of Ocean Energy Management

[MMAA104000; OMB Control Number 1010-0082; Docket ID: BOEM-2018-0016]

Agency Information Collection Activities; Submission to the Office of Management and Budget for Review and Approval; 30 CFR 581, Leasing of Minerals Other Than Oil, Gas, Sulphur in the Outer Continental Shelf

AGENCY: Bureau of Ocean Energy Management, Interior.

ACTION: Notice of information collection; request for comment.

SUMMARY: In accordance with the Paperwork Reduction Act of 1995, the Bureau of Ocean Energy Management (BOEM) is proposing to renew an information collection with revisions.

DATES: Interested persons are invited to submit comments on or before November 13, 2017.

ADDRESSES: Send written comments on this information collection request (ICR) to the Office of Management and Budget's Desk Officer for the Department of the Interior by email at OIRA_Submission@omb.eop.gov; or via facsimile to (202) 395-5806. Please provide a copy of your comments to Information Collection Clearance Officer, Anna Atkinson, Bureau of Ocean Energy Management, 45600 Woodland Road, VAM-DIR, Sterling, Virginia 20166; or by email to anna.atkinson@boem.gov. Please reference OMB Control Number 1010-0082 in the subject line of your comments.

FOR FURTHER INFORMATION CONTACT: To request additional information about this ICR, contact Anna Atkinson, Office of Policy, Regulations, and Analysis by email, or by telephone at 703-787-1025. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 14, 2017 (82 FR 18008). No comments were received.

We are again soliciting comments on the proposed ICR that is described below. We are especially interested in public comment addressing the following issues: (1) Is the collection necessary to the proper functions of BOEM; (2) will this information be processed and used in a timely manner; (3) is the estimate of burden accurate; (4) how might BOEM enhance the quality, utility, and clarity of the information to be collected; and (5) how might BOEM minimize the burden of this collection on the respondents, including through the use of information technology?

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Outer Continental Shelf Lands Act (Act), as amended (43 U.S.C. 1334 and 43 U.S.C. 1337(k)), authorizes the Secretary of the Interior to administer the provisions relating to the leasing of the Outer Continental Shelf (OCS), and to prescribe such rules and regulations as may be necessary to carry out such provisions. Additionally, the Act authorizes the Secretary to implement regulations to grant to qualified persons, offering the highest cash bonuses on the basis of competitive bidding, leases of any mineral other than oil, gas, and sulphur. This applies to any area of the OCS not then under lease for such mineral upon such royalty, rental, and other terms and conditions as the Secretary may prescribe at the time of offering the area for lease.

Regulations at 30 CFR part 581 implement these statutory requirements. There has been no leasing activity on the OCS for minerals other than oil, gas, or sulphur under these regulations for several years, and BOEM has not received information under this Part of its regulation. However, there is potential for a person, entity, or company to request that minerals other than oil, gas, or sulfur be offered for lease. Therefore, we are renewing OMB approval for this information collection.

BOEM will use the information required by 30 CFR part 581 to determine if statutory and regulatory requirements are met prior to the issuance of a lease. Among other things, BOEM will use the information to:

• Evaluate the area and minerals requested by the lessee to assess the viability of offering leases for sale;

• Request the state(s) to initiate the establishment of a joint group to assess the proposed action;

• Ensure excessive overriding royalty interests are not created that would put economic constraints on all parties involved;

• Document that a leasehold or geographical subdivision has been surrendered by the record title holder; and

• Determine if activities on the proposed lease area(s) will have a significant impact on the environment.

We protect proprietary information in accordance with the provisions of the Freedom of Information Act (5 U.S.C. 552), the Department of the Interior's implementing regulations (43 CFR part 2), and BOEM's regulation at 30 CFR 581.7.

Title of Collection: 30 CFR 581, Leasing of Minerals Other than Oil, Gas, and Sulphur in the Outer Continental Shelf.

OMB Control Number: 1010-0082.

Form Number: None.

Type of Review: Revision of a currently approved collection.

Respondents/Affected Public: As there are no active respondents, we estimated the potential annual number of respondents to be one. Potential respondents are potential OCS lessees, state governments, and OCS lessees.

Total Estimated Number of Annual Responses: 10 responses.

Total Estimated Number of Annual Burden Hours: 984 hours.

Respondent's Obligation: Mandatory.

Frequency of Collection: Annually.

Total Estimated Annual Nonhour Burden Cost: We have identified one non-hour cost burden for this collection, a $50 required or non-required filing document fee under 30 CFR 581.41.

Estimated Reporting and Recordkeeping Hour Burden: We expect the burden estimate for the renewal will be 984 hours, which reflects a decrease of 280 hour burdens.

In calculating the burdens, responses to requests for information and interest or proposed notices of sale pursuant to 30 CFR 581.12 and 581.16 do not constitute information collection under 5 CFR 1320.3(h)(4). These inquiries are general solicitations of public comment, so BOEM has removed the burden hours associated with them, reflecting a decrease of 280 hour burdens.

The following table details the individual BOEM components and respective hour burden estimates of this ICR. We assumed that respondents perform certain requirements in the normal course of their activities. We consider these to be usual and customary and took that into account in estimating the burden.

Burden Table
Citation 30 CFR Part 581 | Reporting and/or recordkeeping requirements * | Hour burden | Average number of annual reponses | Annual burden hours
| Non-hour cost burden(s) *
Subpart A—General
6 | Appeal decisions | Exempt under 5 CFR 1320.4(a)(2), (c). |  | 0
9 | Governor of affected States initiates negotiations on jurisdictional controversy, etc., and enters agreement with BOEM | 16 | 1 request | 16
Subtotal | 1 | 16
Subpart B—Leasing Procedures
11(a), (c) | Submit request for approval for mineral lease with required information | 60 | 1 request | 60
12 | Submit response to Call for Information and Interest on areas for leasing of minerals (other than oil, gas, sulphur) in accordance with approved lease program, including information from States/local governments, industry, Federal agencies | Not considered IC as defined in 5 CFR 1320.3(h)(4). |  | 0
13 | States or local governments establish task force; submit comments/recommendations on planning, coordination, consultation, and other issues that may arise in the leasing process | 200 | 1 taskforce | 200
16 | Submit suggestions and relevant information in response to request for comments on the proposed leasing notice, including information from States/local governments | Not considered IC as defined in 5 CFR 1320.3(h)(4). |  | 0
18; 20(e), (f); 26(a), (b) | Submit bids (oral or sealed) and required information | 250 | 1 response | 250
18(b)(3), (c); 20 (e), (f) | Tie bids—submit oral bids for highest bidder | 20 | 1 response | 20

Burden Table
Citation 30 CFR Part 581 | Reporting and/or recordkeeping requirements * | Hour burden | Average number of annual reponses | Annual burden hours
| Non-hour cost burden(s) *
20(a), (b), (c); 41(a) | Establish a company file for qualification, submit updated information, submit qualifications for lessee/bidder and required information | 58 | 1 response | 58
21(a); 47(c) | Request for reconsideration of bid rejection/cancellation | Not considered IC per 5 CFR 1320.3(h)(9). |  | 0
21(b), (e); 23; 26(e), (i); 40(b) | Execute lease (includes submission of evidence of authorized agent and request for dating of leases); maintain auditable records related to 30 CFR Chapter XII, Subchapter A—[burden under ONRR requirements] | 100 | 1 lease | 100
Subtotal | 6 | 688
Subpart C—Financial Considerations
31(b); 41 | File application and required information for approval of assignment or transfer | 160 | 1 application | 160
32(b), (c) | File application for waiver, suspension, or reduction and required documentation | 80 | 1 application | 80
33; 41(c) | Submit surety or personal bond | Burden covered under 1010-0081. |  | 0
Subtotal | 2 | 240
Subpart D—Assignments and Lease Extensions
41 | Transfer application filing fee | $50 required or non-required filing document fee × 1 = $50.
Subpart E—Termination of Leases
46 | File written request for relinquishment | 40 | 1 | 40
Total Burden | 10 | 984
| $50 Non-Hour Cost Burden

An agency may not conduct or sponsor and a person is not required to respond to a collection of information unless it displays a currently valid OMB control number.

The authority for this action is the Paperwork Reduction Act of 1995 (44 U.S.C. 3501 et seq.).

Dated: October 5, 2017.
Deanna Meyer-Pietruszka,
Chief, Office of Policy, Regulation and Analysis.

[FR Doc. 2017-22015 Filed 10-11-17; 8:45 am]

BILLING CODE 4310-MR-P